NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 16, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov. Phone number: 703-292-8224.

SUPPLEMENTARY INFORMATION: The National Science Foundation, as directed by the Antarctic Conservation Act of 1978 (Public Law 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-013

1. Applicant: Linnea Pearson, California Polytechnic State University, Department of Biological Sciences, 1 Grand Avenue, San Luis Obispo CA 93407.

Activity for Which Permit is Requested: Take, Harmful Interference, Enter Antarctic Specially Protected Area (ASPA), Import Into USA. The applicant proposes to study the thermoregulatory strategies by which Weddell seal pups maintain euthermia in air and in water and examine the development of diving capability as the animals prepare for independent foraging. This study will take place in Erebus Bay, near McMurdo Station, and may require entry into ASPA 121, Cape Royds. Each year, ten pups will be handled at four time points between one and eight weeks of age. Protocols not requiring sedation (mass, morphometrics, core and surface temperatures, metabolic rates) and protocols requiring anesthesia (body composition, biopsies, blood volume analysis) will be conducted on five pups at all four time points under manual restraint. Metabolic and morphometric measurements will be conducted on a separate cohort of five pups at each of the four time points. The applicant will also conduct behavioral observations, imaging, and may disturb up to 350 Weddell seals. An additional seven Weddell seal pups, 15 Weddell seal adult females, and 20 crabeater seals may be disturbed during procedures on study animals. Up to two pup mortalities are requested per year, not to exceed three over the course of two field seasons. The applicant also plans to collect tissues from Weddell seals (any age or gender) found dead from natural causes. The permit applicant has applied for a Marine Mammal Protection Act permit for the proposed activities.

Location: Erebus Bay, McMurdo Sound; ASPA 121, Cape Royds.

Dates: October 1, 2017-September 30, 2020.

Permit Application: 2018-012

2. Applicant: Jay J. Rotella, Ecology Department, Montana State University, Bozeman, Montana 59717

Activity for Which Permit is Requested: Take, Harmful Interference, Enter Antarctic Specially Protected Area, Import Into USA. The permit applicant plans to continue long-term studies of Weddell seal populations in Erebus Bay and the McMurdo Sound region to evaluate how temporal variation in the marine environment affects individual life histories and population dynamics of a long-lived mammal. These studies may require the applicant and agents to enter into ASPAs in the area including ASPA 137, 155, 121, 157, 158, and 161. Research involves capture and release of up to 675 Weddell seal pups at one to four days after birth for flipper tagging per year. Up to 150 of the pups would also receive a temperature recording flipper tag, be weighed, and have a skin biopsy taken during the initial tagging. These pups would be re-captured at 20 days of age to be weighed, and again at weaning for weighing and removal of the temperature tags. The applicant proposes to capture up to 285 adult Weddell seals per year using a head-bagging technique to place or replace flipper tags. Skin biopsies would be taken from up to 100 previously tagged adult Weddell seals. Up to 75 adult female Weddell seals would be photographed on the three occasions when their pups are weighed to obtain an estimate of body mass and 15 females will be physically weighed during the initial pup tagging to validate the photogrammetry results. The applicant requests two Weddell seal unintentional mortalities, one pup and one adult, per year. The applicant also plans to collect tissues from adult Weddell seals found dead from natural causes. During the course of the study, the applicant anticipates incidental disturbance of Weddell seals and a limited number of crabeater seals and leopard seals. The permit applicant has applied for a Marine Mammal Protection Act permit for the proposed activities.

Location: Erebus Bay, McMurdo Sound; ASPA 137, North-West White Island, McMurdo Sound; ASPA 155, Cape Evans; ASPA 121, Cape Royds; ASPA 157, Backdoor Bay, Cape Royds, Ross Island; ASPA 158, Hut Point, Ross Island; ASPA 161, Terra Nova Bay, Ross Sea.

Dates: October 1, 2017-September 30, 2022.

Nadene G. Kennedy,
Polar Coordination Specialist, Office of Polar Programs.

[FR Doc. 2017-19505 Filed 9-13-17; 8:45 am]

BILLING CODE 7555-01-P